DEPARTMENT OF HEALTH AND HUMAN SERVICES

National Institutes of Health

Center for Scientific Review; Amended Notice of Meeting

Notice if hereby given of a change in the meeting of the Integrative and Clinical Endocrinology and Reproduction Study Section, February 4, 2008, 8 a.m. to February 5, 2008, 3 p.m., Bethesda Marriott, 5151 Pooks Hill Road, Bethesda, MD, 20814 which was published in the Federal Register on January 15, 2008, 73 FR 2513-2516.

The meeting will be held at the Hyatt Regency Bethesda, One Bethesda Metro Center, 7400 Wisconsin Avenue, Bethesda, MD 20814. The meeting dates and time remain the same. The meeting is closed to the public.

Dated: January 18, 2008.
Jennifer Spaeth,
Director, Office of Federal Advisory Committee Policy.

[FR Doc. 08-300 Filed 1-25-08; 8:45 am]

BILLING CODE 4140-01-M